DEPARTMENT OF ENERGY

Federal Energy Regulatory Commission

[Docket No. EL15-43-000]

Delta-Montrose Electric Association; Notice of Petition for Declaratory Order

Take notice that on February 9, 2015, pursuant to Rule 207(a)(2) of the Federal Energy Regulatory Commission's (Commission) Rules of Practice and Procedure, 18 CFR 385.207(a)(2) (2014), Delta-Montrose Electric Association (DMEA) filed a petition for declaratory order requesting the Commission declare that: (1) Tri-State Generation and Transmission Association, Inc. (Tri-State) is a public utility pursuant to sections 201(e) and (f) of the Federal Power Act (FPA) and its wholesale partial requirements contract with DMEA is therefore subject to the Commission's jurisdiction under sections 205 and 206 of the FPA,¹ (2) DMEA's obligation to purchase power from certified qualifying facilities (QF) under the Public Utility Regulatory Policies Act of 1978 supersedes any potentially conflicting provisions in DMEA's wholesale partial requirements contract with Tri-State, and (3) Commission's regulations permit an electric utility and a QF to negotiate rates, all as more fully explained in the petition.

¹ 16 U.S.C. 824(e) and (f); 16 U.S.C. 824(d) and 824(e).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on March 11, 2015.

Dated: February 11, 2015.
Nathaniel J. Davis, Sr.,
Deputy Secretary.

[FR Doc. 2015-03260 Filed 2-17-15; 8:45 am]

BILLING CODE 6717-01-P